DEPARTMENT OF HEALTH AND HUMAN SERVICES

National Institutes of Health

Proposed Collection; Comment Request; National Institute of Nursing Research (NINR) Summer Genetics Institute Alumni Survey

SUMMARY: In compliance with the requirement of Section 3506(c)(2)(A) of the Paperwork Reduction Act of 1995, for opportunity for public comment on proposed data collection projects, the National Institute of Nursing Research (NINR), the National Institutes of Health (NIH) will publish periodic summaries of proposed projects to be submitted to the Office of Management and Budget (OMB).

Prosposed Collection: Title: NIH/National Institute of Nursing Research (NINR) Summer Genetics Institute Alumni Survey. Type of Information Collection Request: NEW. Need and Use of Information Collection: The NINR Summer Genetics Institute Alumni Survey will obtain information on the long-term outcomes of this training program for nurse scientists and faculty. Target participants are alumni of this training institute which began in 2000. The survey inquires about career activities, including research, clinical, teaching and educational activities, since completion of the NINR Summer Genetics Institute. This is a 39-item survey that takes an average of 30 minutes to complete. The findings will provide valuable information on the influence of the Institute in developing genetics research capability among Institute alumni, and development and expansion of clinical practice in genetics among alumni who are nurse clinicians. Frequency of Response: Annual for three (3) years. Affected Public: Individual alumni of the NINR Summer Genetics Institute. Type of Respondents: Nurse scientists, clinicians, and faculty. The annual reporting burden is as follows: Estimated Number of Respondents: 150; Estimated Number of Responses per Respondent: 1; Average Burden Hours per Response: .5; and Estimated Total Annual Burden Hours Requested: 75. There are no Capital Costs, Operating or Maintenance Costs to report.

Type of respondents | Number of respondents | Frequency of response | Average time per response (minutes/hour) | Annual burden hours
Researchers | 150 | 1 | 0.5 | 75

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Amanda Greene, Science Evaluation Officer, Office of Science Policy and Public Liaison, NINR, Democracy One, 6701 Democracy Blvd., Suite 700, Bethesda, MD 20892, or call non-toll-free number 301-496-9601, or email your request to amanda.greene@nih.gov.

Comments Due Date: Comments regarding this information collection are best assured of having their full effect if received within 60-days of the date of this publication.

Dated: June 22, 2012.
Amanda Greene,
NINR Project Clearance Officer, Science Evaluation Officer, NINR, National Institutes of Health.

[FR Doc. 2012-16022 Filed 6-28-12; 8:45 am]

BILLING CODE 4140-01-P